NUCLEAR REGULATORY COMMISSION

[NRC-2012-0193]

Biweekly Notice; Applications and Amendments to Facility Operating Licenses and Combined Licenses Involving No Significant Hazards Considerations

Background

Pursuant to Section 189a.(2) of the Atomic Energy Act of 1954, as amended (the Act), the U.S. Nuclear Regulatory Commission (the Commission or NRC) is publishing this regular biweekly notice. The Act requires the Commission publish notice of any amendments issued, or proposed to be issued and grants the Commission the authority to issue and make immediately effective any amendment to an operating license or combined license, as applicable, upon a determination by the Commission that such amendment involves no significant hazards consideration, notwithstanding the pendency before the Commission of a request for a hearing from any person.

This biweekly notice includes all notices of amendments issued, or proposed to be issued from August 8, 2012 to August 21, 2012. The last biweekly notice was published on August 7, 2012 (77 FR 47123).

ADDRESSES: You may access information and comment submissions related to this document, which the NRC possesses and is publicly available, by searching on http://www.regulations.gov under Docket ID NRC-2012-0193. You may submit comments by the following methods:

• Federal Rulemaking Web Site: Go to http://www.regulations.gov and search for Docket ID NRC-2012-0193. Address questions about NRC dockets to Carol Gallagher; telephone: 301-492-3668; email: Carol.Gallagher@nrc.gov.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

SUPPLEMENTARY INFORMATION:

I. Accessing Information and Submitting Comments

A. Accessing Information

Please refer to Docket ID NRC-2012-0193 when contacting the NRC about the availability of information regarding this document. You may access information related to this document, which the NRC possesses and are publicly available, by any of the following methods:

• Federal Rulemaking Web Site: Go to http://www.regulations.gov and search for Docket ID NRC-2012-0193.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. Documents may be viewed in ADAMS by performing a search on the document date and docket number.

• NRC's PDR: You may examine and purchase copies of public documents at the NRC's PDR, Room O1-F21, One White Flint North, 11555 Rockville Pike, Rockville, Maryland 20852.

B. Submitting Comments

Please include Docket ID NRC-2012-0193 in the subject line of your comment submission, in order to ensure that the NRC is able to make your comment submission available to the public in this docket.

The NRC cautions you not to include identifying or contact information in comment submissions that you do not want to be publicly disclosed. The NRC posts all comment submissions at http://www.regulations.gov as well as entering the comment submissions into ADAMS, and the NRC does not edit comment submissions to remove identifying or contact information.

If you are requesting or aggregating comments from other persons for submission to the NRC, then you should inform those persons not to include identifying or contact information in their comment submissions that they do not want to be publicly disclosed. Your request should state that the NRC will not edit comment submissions to remove such information before making the comment submissions available to the public or entering the comment submissions into ADAMS.

Notice of Consideration of Issuance of Amendments to Facility Operating Licenses and Combined Licenses, Proposed No Significant Hazards Consideration Determination, and Opportunity for a Hearing

The Commission has made a proposed determination that the following amendment requests involve no significant hazards consideration. Under the Commission's regulations in § 50.92 of Title 10 of the Code of Federal Regulations (10 CFR), this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of 60 days after the date of publication of this notice. The Commission may issue the license amendment before expiration of the 60-day period provided that its final determination is that the amendment involves no significant hazards consideration. In addition, the Commission may issue the amendment prior to the expiration of the 30-day comment period should circumstances change during the 30-day comment period such that failure to act in a timely way would result, for example in derating or shutdown of the facility. Should the Commission take action prior to the expiration of either the comment period or the notice period, it will publish in the Federal Register a notice of issuance. Should the Commission make a final No Significant Hazards Consideration Determination, any hearing will take place after issuance. The Commission expects that the need to take this action will occur very infrequently.

Within 60 days after the date of publication of this notice, any person(s) whose interest may be affected by this action may file a request for a hearing and a petition to intervene with respect to issuance of the amendment to the subject facility operating license or combined license. Requests for a hearing and a petition for leave to intervene shall be filed in accordance with the Commission's “Rules of Practice for Domestic Licensing Proceedings” in 10 CFR Part 2. Interested person(s) should consult a current copy of 10 CFR 2.309, which is available at the NRC's PDR, located at One White Flint North, Room O1-F21, 11555 Rockville Pike (first floor), Rockville, Maryland 20852. The NRC regulations are accessible electronically from the NRC Library on the NRC's Web site at http://www.nrc.gov/reading-rm/doc-collections/cfr/. If a request for a hearing or petition for leave to intervene is filed by the above date, the Commission or a presiding officer designated by the Commission or by the Chief Administrative Judge of the Atomic Safety and Licensing Board Panel, will rule on the request and/or petition; and the Secretary or the Chief Administrative Judge of the Atomic Safety and Licensing Board will issue a notice of a hearing or an appropriate order.

As required by 10 CFR 2.309, a petition for leave to intervene shall set forth with particularity the interest of the petitioner in the proceeding, and how that interest may be affected by the results of the proceeding. The petition should specifically explain the reasons why intervention should be permitted with particular reference to the following general requirements: (1) The name, address, and telephone number of the requestor or petitioner; (2) the nature of the requestor's/petitioner's right under the Act to be made a party to the proceeding; (3) the nature and extent of the requestor's/petitioner's property, financial, or other interest in the proceeding; and (4) the possible effect of any decision or order which may be entered in the proceeding on the requestor's/petitioner's interest. The petition must also identify the specific contentions which the requestor/petitioner seeks to have litigated at the proceeding.

Each contention must consist of a specific statement of the issue of law or fact to be raised or controverted. In addition, the requestor/petitioner shall provide a brief explanation of the bases for the contention and a concise statement of the alleged facts or expert opinion which support the contention and on which the requestor/petitioner intends to rely in proving the contention at the hearing. The requestor/petitioner must also provide references to those specific sources and documents of which the petitioner is aware and on which the requestor/petitioner intends to rely to establish those facts or expert opinion. The petition must include sufficient information to show that a genuine dispute exists with the applicant on a material issue of law or fact. Contentions shall be limited to matters within the scope of the amendment under consideration. The contention must be one which, if proven, would entitle the requestor/petitioner to relief. A requestor/petitioner who fails to satisfy these requirements with respect to at least one contention will not be permitted to participate as a party.

Those permitted to intervene become parties to the proceeding, subject to any limitations in the order granting leave to intervene, and have the opportunity to participate fully in the conduct of the hearing.

If a hearing is requested, the Commission will make a final determination on the issue of no significant hazards consideration. The final determination will serve to decide when the hearing is held. If the final determination is that the amendment request involves no significant hazards consideration, the Commission may issue the amendment and make it immediately effective, notwithstanding the request for a hearing. Any hearing held would take place after issuance of the amendment. If the final determination is that the amendment request involves a significant hazards consideration, then any hearing held would take place before the issuance of any amendment.

All documents filed in the NRC adjudicatory proceedings, including a request for hearing, a petition for leave to intervene, any motion or other document filed in the proceeding prior to the submission of a request for hearing or petition to intervene, and documents filed by interested governmental entities participating under 10 CFR 2.315(c), must be filed in accordance with the NRC E-Filing rule (72 FR 49139; August 28, 2007). The E-Filing process requires participants to submit and serve all adjudicatory documents over the internet, or in some cases to mail copies on electronic storage media. Participants may not submit paper copies of their filings unless they seek an exemption in accordance with the procedures described below.

To comply with the procedural requirements of E-Filing, at least 10 days prior to the filing deadline, the participant should contact the Office of the Secretary by email at hearing.docket@nrc.gov, or by telephone at 301-415-1677, to request (1) a digital identification (ID) certificate, which allows the participant (or its counsel or representative) to digitally sign documents and access the E-Submittal server for any proceeding in which it is participating; and (2) advise the Secretary that the participant will be submitting a request or petition for hearing (even in instances in which the participant, or its counsel or representative, already holds an NRC-issued digital ID certificate). Based upon this information, the Secretary will establish an electronic docket for the hearing in this proceeding if the Secretary has not already established an electronic docket.

Information about applying for a digital ID certificate is available on the NRC's public Web site at http://www.nrc.gov/site-help/e-submittals/apply-certificates.html. System requirements for accessing the E-Submittal server are detailed in the NRC's “Guidance for Electronic Submission,” which is available on the agency's public Web site at http://www.nrc.gov/site-help/e-submittals.html. Participants may attempt to use other software not listed on the Web site, but should note that the NRC's E-Filing system does not support unlisted software, and the NRC Meta System Help Desk will not be able to offer assistance in using unlisted software.

If a participant is electronically submitting a document to the NRC in accordance with the E-Filing rule, the participant must file the document using the NRC's online, Web-based submission form. In order to serve documents through the Electronic Information Exchange System, users will be required to install a Web browser plug-in from the NRC's Web site. Further information on the Web-based submission form, including the installation of the Web browser plug-in, is available on the NRC's public Web site at http://www.nrc.gov/site-help/e-submittals.html.

Once a participant has obtained a digital ID certificate and a docket has been created, the participant can then submit a request for hearing or petition for leave to intervene. Submissions should be in Portable Document Format (PDF) in accordance with the NRC guidance available on the NRC's public Web site at http://www.nrc.gov/site-help/e-submittals.html. A filing is considered complete at the time the documents are submitted through the NRC's E-Filing system. To be timely, an electronic filing must be submitted to the E-Filing system no later than 11:59 p.m. Eastern Time on the due date. Upon receipt of a transmission, the E-Filing system time-stamps the document and sends the submitter an email notice confirming receipt of the document. The E-Filing system also distributes an email notice that provides access to the document to the NRC's Office of the General Counsel and any others who have advised the Office of the Secretary that they wish to participate in the proceeding, so that the filer need not serve the documents on those participants separately. Therefore, applicants and other participants (or their counsel or representative) must apply for and receive a digital ID certificate before a hearing request/petition to intervene is filed so that they can obtain access to the document via the E-Filing system.

A person filing electronically using the agency's adjudicatory E-Filing system may seek assistance by contacting the NRC Meta System Help Desk through the “Contact Us” link located on the NRC's Web site at http://www.nrc.gov/site-help/e-submittals.html, by email at MSHD.Resource@nrc.gov, or by a toll-free call at 1-866 672-7640. The NRC Meta System Help Desk is available between 8 a.m. and 8 p.m., Eastern Time, Monday through Friday, excluding government holidays.

Participants who believe that they have a good cause for not submitting documents electronically must file an exemption request, in accordance with 10 CFR 2.302(g), with their initial paper filing requesting authorization to continue to submit documents in paper format. Such filings must be submitted by: (1) First class mail addressed to the Office of the Secretary of the Commission, U.S. Nuclear Regulatory Commission, Washington, DC 20555-0001, Attention: Rulemaking and Adjudications Staff; or (2) courier, express mail, or expedited delivery service to the Office of the Secretary, Sixteenth Floor, One White Flint North, 11555 Rockville Pike, Rockville, Maryland 20852, Attention: Rulemaking and Adjudications Staff. Participants filing a document in this manner are responsible for serving the document on all other participants. Filing is considered complete by first-class mail as of the time of deposit in the mail, or by courier, express mail, or expedited delivery service upon depositing the document with the provider of the service. A presiding officer, having granted an exemption request from using E-Filing, may require a participant or party to use E-Filing if the presiding officer subsequently determines that the reason for granting the exemption from use of E-Filing no longer exists.

Documents submitted in adjudicatory proceedings will appear in the NRC's electronic hearing docket which is available to the public at http://ehd1.nrc.gov/ehd/, unless excluded pursuant to an order of the Commission, or the presiding officer. Participants are requested not to include personal privacy information, such as Social Security numbers, home addresses, or home phone numbers in their filings, unless an NRC regulation or other law requires submission of such information. With respect to copyrighted works, except for limited excerpts that serve the purpose of the adjudicatory filings and would constitute a Fair Use application, participants are requested not to include copyrighted materials in their submission.

Petitions for leave to intervene must be filed no later than 60 days from the date of publication of this notice. Non-timely filings will not be entertained absent a determination by the presiding officer that the petition or request should be granted or the contentions should be admitted, based on a balancing of the factors specified in 10 CFR 2.309(c)(1)(i)-(viii).

For further details with respect to this license amendment application, see the application for amendment which is available for public inspection at the NRC's PDR, located at One White Flint North, Room O1-F21, 11555 Rockville Pike (first floor), Rockville, Maryland 20852. Publicly available documents created or received at the NRC are accessible electronically through ADAMS in the NRC Library at http://www.nrc.gov/reading-rm/adams.html. Persons who do not have access to ADAMS or who encounter problems in accessing the documents located in ADAMS, should contact the NRC's PDR Reference staff at 1-800-397-4209, 301-415-4737, or by email to pdr.resource@nrc.gov.

Dominion Nuclear Connecticut, Inc., Docket No. 50-423, Millstone Power Station, Unit 3, New London County, Connecticut

Date of amendment request: July 23, 2012.

Description of amendment request: The proposed amendment would conform the Millstone Power Station Unit 3 (MPS3) licenses to reflect a name change for Central Vermont Public Service Corporation (CVPS) resulting from a subsequent restructuring in which CVPS will be consolidated with Gaz Métro's other electric utility subsidiary in Vermont, Green Mountain Power Corporation.

Basis for proposed no significant hazards consideration determination: As required in § 50.91(a) of Title 10 of the Code of Federal Regulations (10 CFR), the licensee has provided its analysis of the issue of no significant hazards consideration, which is presented below:

1. Operation of the facility would not involve a significant increase in the probability or consequences of an accident previously evaluated?

Response: No.

This request is for an administrative change only. No actual facility equipment or accident analyses will be affected by the proposed change.

Therefore, this request will have no impact on the probability or consequences of an accident previously evaluated.

2. Operation of the facility would not create the possibility of a new or different kind of accident from any accident previously evaluated?

Response: No.

This request is for an administrative change only. No actual facility equipment or accident analyses will be affected by the proposed change and no failure modes not bounded by previously evaluated accidents will be created.

Therefore, this request will not create the possibility of a new or different kind of accident from any accident previously evaluated.

3. Operation of the facility would not involve a significant reduction in a margin of safety?

Response: No.

Margin of safety is associated with confidence in the ability of the fission product barriers (i.e., fuel cladding, Reactor Coolant System pressure boundary, and containment structure) to limit the level of radiation dose to the public. This request is for an administrative change only. No actual plant equipment or accident analyses will be affected by the proposed change. Additionally, the proposed change will not relax any criteria used to establish safety limits, will not relax any safety system settings, and will not relax the bases for any limiting conditions of operation.

Therefore, this proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Lillian M. Cuoco, Senior Counsel, Dominion Resources Services, Inc., 120 Tredegar Street, RS-2, Richmond, VA 23219.

NRC Branch Chief: George A. Wilson.

Entergy Nuclear Operations, Inc., Docket No. 50-286, Indian Point Nuclear Generating Unit 3, Westchester County, New York

Date of amendment request: February 6, 2012.

Description of amendment request: The proposed amendment will revise the Updated Final Safety Analysis Report to allow use of the Backup Spent Fuel Pool Cooling System when the Spent Fuel Pool Cooling System is out of service.

Basis for proposed no significant hazards consideration determination: As required in 10 CFR 50.91(a), the licensee has provided its analysis of the issue of no significant hazards consideration, which is presented below:

1. Does the proposed change involve a significant increase in the probability or consequences of an accident previously evaluated?

No. The proposed changes revise the Updated Final Safety Analysis Report (UFSAR) to allow using the Backup Spent Fuel Pool Cooling System (BSFPCS) as a stand-alone system when the Spent Fuel Pool Cooling System (SFPCS) is out of service for maintenance and repair. The SFPCS is allowed to be taken out for maintenance and repairs. The current design, if the SFPCS were out of service due to maintenance, repair or failure, would be to add make up water to the SFP to provide cooling and prevent loss of water level due to boiling. The use of the BSFPCS during times when the SFPCS is out of service for maintenance and repairs provides alternate cooling to limit the SFP temperature during these periods. The failure of the SFPCS and the addition of water is not an accident and consequences are not evaluated. Therefore, the BSFPCS does not mitigate consequences of an accident previously evaluated. Similarly, the BSFPCS is not the initiator of any accident.

Therefore the proposed change does not involve a significant increase in the probability or consequences of an accident previously evaluated.

2. Does the change create the possibility of a new or different kind of accident from any accident previously evaluated?

No. The proposed changes revise the UFSAR to allow using the BSFPCS when the SFPCS is out of service for maintenance and repair. The proposed changes involve the use of alternate equipment but failures do not result in different consequences from those of the existing system. The proposed revision to use the BSFPCS as a stand-alone system is not a change to the way that existing equipment is operated. The change involves the use of an alternate cooling system but the design is not associated with accident initiation so no new accident initiators are created. The proposed change involves administrative controls to assure the system capability.

Therefore, the proposed change does not create the possibility of a new or different kind of accident from any accident previously evaluated.

3. Does the proposed change involve a significant reduction in a margin of safety?

No. The proposed changes revise the UFSAR to allow using the BSFPCS as a stand-alone system when the SFPCS is out of service for maintenance and repair. The SFPCS is considered more robust than the BSFPCS in terms of its capability to restore operation with a hotter spent fuel pool. However, the BSFPCS will be used as a standalone system only when taking the SFPCS out of service for maintenance and repair. The current allowance is to take the SFPCS out of service for repairs so the BSFPCS will provide margin to reduce the likelihood of SFP boiling. While in service, a postulated moderate energy line break in the BSFPCS can increase the amount of water that can be lost from the SFP. However, the reduced level does not affect the ability to supply makeup water to the SFP to raise the level and provide cooling so there is no significant reduction in the margin for safety.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. William C. Dennis, Assistant General Counsel, Entergy Nuclear Operations, Inc., 440 Hamilton Avenue, White Plains, NY 10601.

NRC Branch Chief: George Wilson.

Exelon Generation Company, LLC, Docket Nos. STN 50-456 and STN 50-457, Braidwood Station, Units 1 and 2, Will County, Illinois

Exelon Generation Company, LLC, Docket Nos. STN 50-454 and STN 50-455, Byron Station, Units 1 and 2, Ogle County, Illinois

Exelon Generation Company, LLC, Docket No. 50-461, Clinton Power Station, Unit 1, DeWitt County, Illinois

Exelon Generation Company, LLC, Docket Nos. 50-237 and 50-249, Dresden Nuclear Power Station, Units 2 and 3, Grundy County, Illinois

Exelon Generation Company, LLC, Docket Nos. 50-373 and 50-374, LaSalle County Station, Units 1 and 2, LaSalle County, Illinois

Exelon Generation Company, LLC, Docket No. 50-352 and No. 50-353, Limerick Generating Station, Units 1 and 2, Montgomery County, Pennsylvania

Exelon Generation Company, LLC, et al., Docket No. 50-219, Oyster Creek Nuclear Generating Station, Ocean County, New Jersey

Exelon Generation Company, LLC, and PSEG Nuclear LLC, Docket Nos. 50-277 and 50-278, Peach Bottom Atomic Power Station, Units 2 and 3, York and Lancaster Counties, Pennsylvania

Exelon Generation Company, LLC, Docket Nos. 50-254 and 50-265, Quad Cities Nuclear Power Station, Units 1 and 2, Rock Island County, Illinois

Exelon Generation Company, LLC, Docket No. 50-289, Three Mile Island Nuclear Station, Unit 1 (TMI-1), Dauphin County, Pennsylvania

Date of amendment request: July 6, 2012.

Description of amendment request: The proposed amendment would revise the Technical Specification (TS) Sections 5.3.1/6.3.1, “Unit (or Facility) Staff Qualifications,” for operator license applicants with the current industry standards for education and eligibility requirements. The proposed amendment would permit changes to the unit (or facility) staff qualification education and experience eligibility requirements for licensed operators. The proposal will bring Exelon Generation Company, LLC (Exelon) into alignment with current industry practices.

Basis for proposed no significant hazards consideration determination: As required by 10 CFR 50.91(a), the licensee has provided its analysis of the issue of no significant hazards consideration, which is presented below:

1. Will operation of the facility in accordance with the proposed amendment involve significant increase in the probability or consequences of an accident previously evaluated?

Response: No

The NRC considered the impact of previously evaluated accidents during the rulemaking process, and by promulgations of the revised 10 CFR Part 55 rule, determined that this impact remains acceptable when licensees have an accredited licensed operator training program which is based on a system approach to training (SAT). EGC maintains an institute of Nuclear Power Operations (INPO) National Academy for Nuclear Training (NANT) accredited program which is based on a SAT. The NRC has concluded in RIS 2001-01, “Eligibility of Operator License Applicants,” and NUREG-1021, “Operator Licensing Examination Standards For Power Reactors,” that standards and guidelines applied by INPO in their accredited training programs are equivalent to those put forth by or endorsed by the NRC. Therefore, maintaining an INPO accredited SAT-based licensed operator training program is equivalent to maintaining an NRC approved licensed operator training program which conforms to applicable NRC Regulatory Guidelines or NRC endorsed industry standards. The proposed changes conform to NANT ACAD 10-001 licensed operator education and experience eligibility requirements.

Based on the above, Exelon concludes that the proposed changes do not involve a significant increase in the probability or consequences of an accident previously evaluated.

2. Will operation of the facility in accordance with the proposed amendment create the possibility of a new or different kind of accident from any accident previously evaluated?

Response: No.

The proposed amendment involves changes to the licensed operator training programs, which are administrative in nature. The EGC licensed operator training programs have been accredited by National Nuclear Accrediting Board (NNAB) and are based on a SAT, which the NRC has previously found to be acceptable.

Based on the above discussion, EGC concludes that the proposed changes do not create the possibility of a new or different kind of accident from any accident previously evaluated.

3. Will operation of the facility in accordance with the proposed amendment involve a significant reduction in a margin of safety?

Response: No.

The proposed TS changes are administrative in nature. The proposed TS changes do not affect plant design, hardware, system operation, or procedures for accident mitigation systems. The proposed changes do not significantly impact the performance or proficiency requirements for licensed operators. As a result, the ability of the plant to respond to and mitigate accidents is unchanged by the proposed TS changes. Therefore, these changes do not involve a significant reduction in a margin of safety.

Based on the above, EGC concludes that the proposed changes do not involve a significant reduction in a margin of safety.

Based on the above evaluation of the three criteria, EGC concludes that the proposed amendment presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendments involve no significant hazards consideration.

Attorney for licensee: Mr. Bradley Fewell, Associate General Counsel, Exelon Generation Company, LLC, 4300 Winfield Road, Warrenville, IL 60555.

NRC Branch Chief: Michael Dudek.

Southern Nuclear Operating Company, Inc. Docket Nos. 52-025 and 52-026, Vogtle Electric Generating Plant (VEGP) Units 3 and 4, Burke County, Georgia

Date of amendment request: August 1, 2012.

Description of amendment request: The proposed changes would amend Combined License Nos. NPF-91 and NPF-92 for VEGP Units 3 and 4, respectively, in regard to the concrete and reinforcement details specified compressive strength for the nuclear island basemat. The basemat is the common 6-foot-thick, cast-in-place, and reinforced concrete foundation for the nuclear island structures, consisting of the containment, shield building, and auxiliary building. The departure from the Tier 2* information involves changing the concrete specified compressive strength from 4000 psi to 5000 psi for the basemat in the Updated Final Safety Analysis Report (UFSAR) Subsection 3.8.4.6.1.1 and removing the 0″ dimension from the Lower-Section detail that represents the basemat below the exterior wall in UFSAR Figure 3H.5-3.

Basis for proposed no significant hazards consideration determination: As required by 10 CFR 50.91(a), the licensee has provided its analysis of the issue of no significant hazards consideration, which is presented below:

1. Does the proposed amendment involve a significant increase in the probability or consequences of an accident previously evaluated?

Response: No.

The design function of the basemat is to provide the interface between the nuclear island structures and the supporting soil. The basemat transfers the load of nuclear island structures to the supporting soil. The basemat transmits seismic motions from the supporting soil to the nuclear island.

The change to the concrete/rebar details for the basemat does not have an adverse impact on the response of the basemat and nuclear island structures to safe shutdown earthquake ground motions or loads due to anticipated transients or postulated accident conditions because there is not an adverse change to the seismic floor response spectra and transient and postulated accidents are not affected by seismic motions. The change to the concrete/rebar details for the basemat does not impact the support, design, or operation of mechanical and fluid systems because [the] change in the loads on these systems due to seismic motions is negligible. There is no change to the design of plant systems or the response of systems to anticipated transients and postulated accident conditions. The basemat supports the structures and the mechanical system and component supports. There is no change to this function. Because the change to the concrete/rebar details does not change the response of systems to postulated accident conditions and is unrelated to any accident source term parameters, there is no change to the predicted radioactive releases due to postulated accident conditions. Therefore, there is no change to the consequences of an accident before or after implementation of the proposed amendment. The plant response to previously evaluated accidents or external events is not adversely affected, nor does the change described create any new accident precursors. Therefore, there is no difference between the probability of a seismically induced event before or after the implementation of the proposed amendment. The concrete specified compressive strength and 0″ dimension are not parameters considered as an initiator for any accident previously evaluated. Therefore, there is no difference in the probability or consequences of a seismically induced event before or after implementation of the proposed amendment.

Based on the considerations outlined above, there is no significant increase in the probability or consequences of an accident previously evaluated.

2. Does the proposed amendment create the possibility of a new or different kind of accident from any accident previously evaluated?

Response: No.

The proposed change is an increase in the concrete specified compressive strength for the basemat and a change in the reinforcement details. The change to the concrete/rebar details does not change the design function of the basemat or nuclear island structures. The change to the concrete/rebar details does not change the design function, support, design, or operation of mechanical and fluid systems. Because the basemat will be designed to the American Concrete Institute (ACI) Codes specified in the UFSAR and the concrete will be specified, mixed, batched and placed to the same codes and standards specified in the UFSAR, the change to the concrete/rebar details does not result in a new failure mechanism for the basemat or new accident precursors. As a result, the design function of the basemat is not adversely affected by the proposed change.

Therefore, the proposed change will not create the possibility of a new or different kind of accident from any accident previously evaluated.

3. Does the proposed amendment involve a significant reduction in a margin of safety?

Response: No.

The margin of safety for the design of the seismic Category I structures including the basemat is determined by the use of the ACI 349 code and the analyses of the structures required by the UFSAR. The change to the concrete/rebar details does not have an adverse impact on the strength of the basemat. The change to the concrete/rebar details does not have an adverse impact on the seismic design spectra or the structural analysis of the basemat or other nuclear island structures. The change to the concrete/rebar details does not significantly impact the analysis requirements or results for the nuclear island for bearing, settlement, construction sequence, sliding, or overturning, because there is no change in the analysis assumptions for density, weight, friction, or seismic motions due to the increase in the concrete specified compressive strength. There is no increase in the portions of the basemat subject to predicted lift-off (zero contact force) during seismic motions analyzed for the safe shutdown earthquake. There is minimal change to soil pressures on the basemat due to the change in stiffness of the basemat. As a result, the design function of the basemat is not adversely affected by the proposed change.

Therefore, the proposed change will not involve a significant reduction in a margin of safety.

The NRC staff has reviewed the licensee's analysis and, based on this review, it appears that the three standards of 10 CFR 50.92(c) are satisfied. Therefore, the NRC staff proposes to determine that the amendment request involves no significant hazards consideration.

Attorney for licensee: Mr. M. Stanford Blanton, Balch & Bingham LLP, 1710 Sixth Avenue North, Birmingham, AL 35203-2015.

NRC Branch Chief: Mark E. Tonacci.

Notice of Issuance of Amendments to Facility Operating Licenses and Combined Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

A notice of consideration of issuance of amendment to facility operating license or combined license, as applicable, proposed no significant hazards consideration determination, and opportunity for a hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.22(b) and has made a determination based on that assessment, it is so indicated.

For further details with respect to the action see (1) the applications for amendment, (2) the amendment, and (3) the Commission's related letter, Safety Evaluation and/or Environmental Assessment as indicated. All of these items are available for public inspection at the NRC's Public Document Room (PDR), located at One White Flint North, Room O1-F21, 11555 Rockville Pike (first floor), Rockville, Maryland 20852. Publicly available documents created or received at the NRC are accessible electronically through the Agencywide Documents Access and Management System (ADAMS) in the NRC Library at http://www.nrc.gov/reading-rm/adams.html. If you do not have access to ADAMS or if there are problems in accessing the documents located in ADAMS, contact the PDR's Reference staff at 1-800-397-4209, 301-415-4737 or by email to pdr.resource@nrc.gov.

Duke Energy Carolinas, LLC, et al., Docket Nos. 50-413 and 50-414, Catawba Nuclear Station, Units 1 and 2, York County, South Carolina

Date of application for amendments: July 21, 2011.

Brief description of amendments: The amendments revised Technical Specifications 3.3.2, “Engineered Safety Feature Actuation System (ESFAS) Instrumentation,” 3.5.4, “Refueling Water Storage Tank (RWST),” and 3.6.6, “Containment Spray System.”

Date of issuance: July 25, 2012.

Effective date: As of the date of issuance and shall be implemented within 30 days from the date of issuance.

Amendment Nos.: Unit 1-269 and Unit 2-265.

Renewed Facility Operating License Nos. NPF-35 and NPF-52: Amendments revised the licenses and the technical specifications.

Date of initial notice in Federal Register: March 20, 2012 (77 FR 16274).

The Commission's related evaluation of the amendments is contained in a Safety Evaluation dated July 25, 2012.

No significant hazards consideration comments received: No.

Entergy Operations, Inc., Docket No. 50-382, Waterford Steam Electric Station, Unit 3 (Waterford 3), St. Charles Parish, Louisiana

Date of amendment request: July 20, 2011, as supplemented by letter dated May 10, 2012.

Brief description of amendment: The licensee will be replacing the two Waterford 3 steam generators (SGs) during the 18th refueling outage, which will commence in the fall of 2012. The existing Waterford 3 SG Program under Technical Specification (TS) 6.5.9, “Steam Generator (SG) Program,” contains an alternate repair criterion for SG tube inspections that is no longer applicable to the replacement SGs. Additionally, the replacement SGs will contain improved Alloy 690 thermally treated tubing material, which extends the SG tubing inservice inspection frequencies beyond that currently allowed by the Waterford TSs. The amendment modified TS 3/4.4.4, “Steam Generator (SG) Tube Integrity,” TS 6.5.9, and TS 6.9.1.5, “Steam Generator Tube Inspection Report,” to reflect the above changes.

Date of issuance: July 31, 2012.

Effective date: As of the date of issuance and shall be implemented prior to the first SG tube inservice inspection for the replacement SGs.

Amendment No.: 236.

Facility Operating License No. NPF-38: The amendment revised the Facility Operating License and Technical Specifications.

Date of initial notice in Federal Register: October 4, 2011 (76 FR 61395). The supplemental letter dated May 10, 2012, provided additional information that clarified the application, did not expand the scope of the application as originally noticed, and did not change the staff's original proposed no significant hazards consideration determination as published in the Federal Register.

The Commission's related evaluation of the amendment is contained in a Safety Evaluation dated July 31, 2012.

No significant hazards consideration comments received: No.

Florida Power and Light Company, Docket Nos. 50-250 and 50-251, Turkey Point Plant, Units 3 and 4, Miami-Dade County, Florida

Date of application for amendments: August 10, 2011, as supplemented by letters dated April 30 and June 19, 2012.

Brief description of amendments: The amendments modify Technical Specification Surveillance Requirements 4.8.2.1 pertaining to periodic verification of battery bank capacity and inter-cell and connection resistance.

Date of issuance: August 8, 2012.

Effective date: As of the date of issuance and shall be implemented within 60 days of issuance.

Amendment Nos.: Unit 3-252 and Unit 4-248.

Renewed Facility Operating License Nos. DPR-31 and DPR-41: Amendments revised the Technical Specifications.

Date of initial notice in Federal Register: October 18, 2011 (76 FR 64392). The supplements dated April 30 and June 19, 2012, provided additional information that clarified the application, did not expand the scope of the application as originally noticed, and did not change the staff's original proposed no significant hazards consideration determination as published in the Federal Register.

The Commission's related evaluation of the amendments is contained in a Safety Evaluation dated August 8, 2012.

No significant hazards consideration comments received: No.

Nine Mile Point Nuclear Station, LLC, Docket No. 50-220, Nine Mile Point Nuclear Station, Unit 1 (NMP1), Oswego County, New York

Date of amendment request: May 25, 2011, as supplemented by letter dated June 29, 2012.

Description of amendment request: The proposed amendment deletes an outdated reference to a specific date delineated in License Condition 2.B.(2) to be consistent with the wording found in the corresponding license condition at multiple stations including Nine Mile Point Unit 2 and Calvert Cliffs Units 1 and 2. Specifically, the proposed amendment removes the words, “as of February 4, 1976,” from License Condition 2.B.(2). This license condition authorizes NMPNS to “* * * receive, possess and use at any time special nuclear material as reactor fuel, in accordance with the limitations for storage and amounts required for reactor operation, as described in the Final Safety Analysis Report as supplemented and amended.”

Date of issuance: July 30, 2012.

Effective date: As of the date of issuance to be implemented within 90 days.

Amendment No.: 213.

Renewed Facility Operating License No. DPR-63: The amendment revises the License.

Date of initial notice in Federal Register: June 28, 2011 (76 FR 37849).

The Commission's related evaluation of the amendment is contained in a Safety Evaluation dated July 30, 2012.

No significant hazards consideration comments received: No.

Northern States Power Company—Minnesota (NSPM), Docket No. 50-263, Monticello Nuclear Generating Plant, Wright County, Minnesota

Date of application for amendment: February 2, 2012.

Brief description of amendment: The amendment revised the Technical Specifications Surveillance Requirement (SR) 3.4.3.2, SR 3.5.1.12, and SR 3.6.1.5.1 to provide an alternative means for testing of main steam system safety/relief valves during various modes of operation.

Date of issuance: July 27, 2012.

Effective date: This license amendment is effective as of the date of its issuance, to be implemented prior to startup from the 2013 Refueling Outage.

Amendment No.: 168.

Facility Operating License No. DPR-22. Amendment revised the Renewed Facility Operating License and Appendix A, Technical Specifications.

Date of initial notice in Federal Register: March 6, 2012 (77 FR 13373).

The Commission's related evaluation of the amendment is contained in a Safety Evaluation dated July 27, 2012.

No significant hazards consideration comments received: No.

Southern Nuclear Operating Company, Inc., Docket Nos. 50-348 and 50-364, Joseph M. Farley Nuclear Plant, Units 1 and 2, Houston County, Alabama

Date of amendment request: September 9, 2011, as supplemented on February 3 and

March 30, 2012.

Brief description of amendment request: The amendments revise Technical Specification (TS) to add Surveillance Requirement 3.3.1.14 to TS Table 3.3.1-1, Function 3, the Power Range Neutron Flux High Positive Rate Trip function.

Date of issuance: August 7, 2012.

Effective date: As of the date of issuance and shall be implemented within 90 days.

Amendment Nos.: Unit 1-189 and Unit 2-184.

Facility Operating License Nos. NPF-2 and NPF-8: The amendments changed the licenses and the technical specifications.

Date of initial notice in Federal Register: December 13, 2011 (76 FR 77572).

The Commission's related evaluation of the amendments is contained in a Safety Evaluation dated August 7, 2012.

No significant hazards consideration comments received: No.

Tennessee Valley Authority, Docket Nos. 50-259, 50-260, and 50-296, Browns Ferry Nuclear Plant, Units 1, 2, and 3, Limestone County, Alabama

Date of application for amendments: August 27, 2010, as supplemented on April 11, 2011, and January 13, 2012.

Description of amendment request: The amendments add a new Action to Technical Specification (TS) 3.7.3, “Control Room Emergency Ventilation (CREV) System,” to modify the proposed completion time for restoration of inoperable HEPA filters and/or charcoal adsorbers to 7 days to restore an inoperable HEPA filter and 14 days to restore an inoperable charcoal adsorber, provided the flowrate requirements of the Ventilation Filter Testing Program are maintained. Additionally, the amendments correct errors in Unit 2 TS page header information that occurred during issuance of TS pages for a previous amendment.

Date of issuance: July 30, 2012.

Effective date: Date of issuance, to be implemented within 14 days.

Amendment Nos.: Unit 1—282, Unit 2—308, and Unit 3—267.

Renewed Facility Operating License Nos. DPR-33, DPR-52, and DPR-68: Amendments revised the licenses and Technical Specifications.

Date of initial notice in Federal Register: November 30, 2010 (75 FR 74097).

The supplements dated April 11, 2011, and January 13, 2012, provided additional information that clarified the application, did not expand the scope of the application as originally noticed, and did not change the staff's original proposed no significant hazards consideration determination as published in the Federal Register.

The Commission's related evaluation of the amendment is contained in a Safety Evaluation dated July 30, 2012.

No significant hazards consideration comments received: No.

Dated at Rockville, Maryland, this 10th day of August 2012.
For the Nuclear Regulatory Commission.
Michele G. Evans,
Director, Division of Operating Reactor Licensing, Office of Nuclear Reactor Regulation.

[FR Doc. 2012-20232 Filed 8-20-12; 8:45 am]

BILLING CODE 7590-01-P